FEDERAL RETIREMENT THRIFT INVESTMENT BOARD

Sunshine Act; Notice of Meeting

TIME AND DATE: 10:00 a.m. (Eastern Time) August 24, 2015 (Telephonic).

PLACE: 10th Floor Board Meeting Room, 77 K Street NE., Washington, DC 20002.

STATUS: Open to the public.

MATTERS TO BE CONSIDERED:

Open Session

1. Approval of the Minutes of the July 27, 2015 Board Member Meeting

2. Monthly Reports

(a) Monthly Participant Activity Report

(b) Legislative Report

(c) Investment Policy Report

3. Quarterly Metrics Report

4. Calendar Review: 2015 and 2016

CONTACT PERSON FOR MORE INFORMATION: Kimberly Weaver, Director, Office of External Affairs, (202) 942-1640.

Dated: August 12, 2015.
James Petrick,
General Counsel, Federal Retirement Thrift Investment Board.

[FR Doc. 2015-20231 Filed 8-13-15; 4:15 pm]

BILLING CODE 6760-01-P